DEPARTMENT OF DEFENSE

Office of the Secretary

[Docket ID: DoD-2019-OS-0119]

Privacy Act of 1974; System of Records

AGENCY: Office of the Secretary, DoD.

ACTION: Notice of a modified System of Records.

SUMMARY: The Office of the Secretary of Defense (OSD) is modifying a System of Records titled, “Defense Enrollment Eligibility Reporting System (DEERS), DMDC 02 DoD.” DEERS manages the issuance of DoD identification cards, manages physical and logistical access to DoD facilities and provides a database for determining DoD entitlements and privileges. The modification also reflects changes to the following sections: System manager, authorities, categories of individuals, categories of records, routine uses, record access procedures, and notification procedures.

DATES: This notice is effective upon publication; however, comments on the Routine Uses will be accepted on or before November 15, 2019. The Routine Uses are effective at the close of the comment period.

ADDRESSES: You may submit comments, identified by docket number and title, by any of the following methods:

* Federal Rulemaking Portal: http://www.regulations.gov.

Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPDD), 1155 Defense Pentagon, Washington, DC 20311-1155, or by phone at (571) 372-0478.

SUPPLEMENTARY INFORMATION: The OSD is modifying a System of Records subject to the Privacy Act of 1974, 5 U.S.C. 552a. The DoD uses this System of Records for the purpose of identity management, benefit eligibility determinations, supporting DoD healthcare management programs and assessing manpower and personnel and readiness functions. Additionally, this system is used to assist in Department programs such as the Transition Assitance Program, facilitation of DoD authorized surveys, and voter registration and voting procedures for eligible members. This modification ensures DoD's compliance with the Privacy Act of 1974 by updating the appropriate authorities and routine uses for authorized sharing of information to external DoD partners, specifically as it relates to the Servicemember Civil Relief Act (SCRA). These updates reflect the reformatting of the notice to ensure compliance with Office of Management and Budget (OMB) Circular No. A-108, “Federal Agency Responsibilities for Review, Reporting, and Publication under the Privacy Act.”

The DoD notices for Systems of Records subject to the Privacy Act of 1974, as amended, have been published in the Federal Register and are available from the address in FOR FURTHER INFORMATION CONTACT or at the Defense Privacy, Civil Liberties, and Transparency Division website at http://dpcld.defense.gov.

The proposed system reports, as required by the Privacy Act, as amended, were submitted on August 28, 2019, to the House Committee on Oversight and Reform, the Senate Committee on Homeland Security and Governmental Affairs, and the OMB pursuant to Section 6 of OMB Circular No. A-108, “Federal Agency Responsibilities for Review, Reporting, and Publication under the Privacy Act,” revised December 23, 2016 (December 23, 2016, 81 FR 94424).

Dated: October 10, 2019.
Aaron T. Siegel,
Alternate OSD Federal Register Liaison Officer, Department of Defense.

SYSTEM NAME AND NUMBER:

Defense Enrollment Eligibility Reporting Systems (DEERS), DMDC 02 DoD.

SECURITY CLASSIFICATION:

Unclassified.

SYSTEM LOCATION:

DMDC at DISA DECC Columbus, 3990 East Broad St, Bldg. 23, Columbus, OH 43213-0240.

SYSTEM MANAGER(S):

Deputy Director, Defense Manpower Data Center, DoD Center Monterey Bay, 400 Gigling Road, Seaside, CA 93955-6771. Email: dodhra.dodc-mb.dmdc.mbx.webmaster@mail.mil.

AUTHORITY FOR MAINTENANCE OF THE SYSTEM:

5 U.S.C. App. 3, Inspector General Act of 1978; 5 U.S.C. Chapter 90, Federal Long-Term Care Insurance; 10 U.S.C. 136, Under Secretary of Defense for Personnel and Readiness; 10 U.S.C. Chapter 53, Miscellaneous Rights and Benefits; 10 U.S.C. Chapter 54, Commissary and Exchange Benefits; 10 U.S.C. Chapter 58, Benefits and Services for Members being Separated or Recently Separated; 10 U.S.C. Chapter 75, Deceased Personnel; 10 U.S.C. 2358, Research and Development Projects; 10 U.S.C. 987, Terms of Consumer Credit Extended to Members and Dependents; 20 U.S.C. 1070h, Scholarships for Veteran's Dependents; 31 U.S.C. 3512(c), Executive Agency Accounting and Other Financial Management Reports and Plan; 38 U.S.C. Chapter 19, Subchapter III, Service members' Group Life Insurance; 42 U.S.C. 18001 note, Patient Protection and Affordable Care Act (Pub. L. 111-148); 42 U.S.C. 1973ff, Federal Responsibilities; 50 U.S.C. Chapter 23, Internal Security; 50 U.S.C. Chapter 50, Servicemembers Civil Relief Act; DoD Directive 1000.04, Federal Voting Assistance Program (FVAP); DoD Directive 1000.25, DoD Personnel Identity Protection (PIP) Program; DoD Instruction 1015.9, Professional United States Scouting Organization Operations at United States Military Installations Located Overseas; DoD Instruction 1100.13, Surveys of DoD Personnel; DoD Instruction 1241.03 TRICARE Retired Reserve (TRS) Program; DoD Instruction 1241.04, TRICARE Reserve Select (TRS) Program; DoD Instruction 1336.05, Automated Extract of Active Duty Military Personnel Records; DoD Instruction 1341.2, Defense Enrollment Eligibility Reporting System (DEERS) Procedures; DoD Manual 1341.02, DoD Identity Management DoD Self-Service (DS) Logon Program and Credential; DoD Instruction 3001.02, Personnel Accountability in Conjunction with Natural or Manmade Disasters; Homeland Security Presidential Directive 12, Policy for a Common Identification Standard for Federal Employees and Contractors; DoD Instruction 7730.54, Reserve Components Common Personnel Data System (RCCPDS); 38 CFR 9.20, Traumatic injury protection; and E.O. 9397 (SSN), as amended.

PURPOSE(S) OF THE SYSTEM:

To manage the issuance of DoD badges and identification cards, i.e., Common Access Cards (CACs) or beneficiary identification cards.

To authenticate and identify DoD affiliated personnel (e.g., contractors); to manage physical and logical access to DoD facilities.

To provide a database for determining eligibility for DoD entitlements and privileges; to detect fraud and abuse of the benefit programs by claimants and providers to include appropriate collection actions arising out of any debts incurred as a consequence of such programs; to detect and identify current DoD civilian and military personnel commiting benefit program fraud and abuse; to ensure benefit eligibility is retained after separation from the military; to maintain the Servicemembers' Group Life Insurance (SGLI) and Family SGLI (FSGLI) coverage elections and beneficiaries' information.

To support DoD healthcare management programs, to include research and analytical projects, through the Defense Health Agency (previously the TRICARE Management Activity); to support benefit administration for those beneficiaries that have granted permission to use their personal email address for benefit-related notification purposes; to register current DoD civilian and military personnel and their authorized dependents to obtain medical examinations, treatment or other benefits to which they are entitled; to provide identification of deceased members.

To assess manpower, support personnel and readiness functions, to include Continuous Evaluation programs; to perform statistical analyses; to determine Service members Civil Relief Act (SCRA) duty status as it pertains to SCRA legislation; to determine Military Lending Act (MLA) eligibility pertaining to MLA legislation; to prepare studies and policies related to manpower and the health and well-being of current and past Armed Forces and DoD-affiliated personnel; to assist in the Transition Assistance Program (TAP); to assist in recruiting prior-service personnel; to notify military members eligible to vote about voter registration and voting procedures; and to provide rosters of DoD affiliated persons at the time of an official declared natural or man-made disaster.

To provide appropriate contact information of DoD personnel and beneficiaries for the purpose of conducting DoD authorized surveys. Authorized surveys are used as a management tool for conducting statistical analysis, policy planning, reporting, evaluation of program effectiveness, conducting research, to provide direct feedback on key strategic indicators, and for other policy planning purposes. Defense Manpower Data Center (DMDC) web usage data will be used to validate continued need for user access to DMDC computer systems and databases, to address problems associated with web access, and to ensure that access is only for official purposes.

CATEGORIES OF INDIVIDUALS COVERED BY THE SYSTEM:

Members, former members, retirees, civilian employees (includes non-appropriated fund) and contractor employees of the DoD and all of the Uniformed Services; Presidential appointees of all Federal Government agencies; Medal of Honor recipients; U.S. Military Academy students; DoD and Department of Veterans Affairs (DVA) beneficiaries (e.g., dependent family members, legal guardians and other protectors, prior military members eligible for DVA benefits, beneficiaries of SGLI/FSGLI), non-Federal agency civilian associates and other individuals granted DoD privileges, benefits, or physical or logical access to military installations (e.g., American Red Cross paid employees, United Service Organization, Intergovernmental Personnel Act Employees, Boy and Girl Scout Professionals, non-DoD contract employees); members of the public treated for a medical emergency in a DoD or joint DoD/DVA medical facility; and non-CAC holders requiring access to DoD IT applications (i.e., DVA employees, Department of Homeland Security (DHS) employees, state National Guard Employees, Office of Personnel Management (OPM) employees and Affiliated Volunteers); Individuals identified as the result of an administrative function in information assurance/cybersecurity reports and supportive materials.

CATEGORIES OF RECORDS IN THE SYSTEM:

Individual's name; Service or Social Security Number (SSN); DoD identification (DoD ID) number; residence address; mailing address; personal and work email addresses; date of birth; gender; mother's maiden name, branch of Service; primary and secondary fingerprints and photographs; Foreign National Identification Numbers; emergency contact person information; stored documents for proofing identity and association; DEERS Benefits Number; relationship of beneficiary to sponsor, to include relationship and eligibility qualifiers (i.e., percent of support by sponsor, student or incapacitation status, guardian authorizations); SGLI/FSGLI beneficiaries information and amounts of coverage; pharmacy benefits; start and end dates of benefits eligibility; number of family members of sponsor; multiple birth code/birth order; primary unit duty location of sponsor; race and ethnic origin; occupation; rank/pay grade.

Disability documentation; wounded, ill and injured identification information; other health information (i.e., tumor/reportable disease registry, immunizations); Medicare eligibility and enrollment data; CHAMPVA and Federal Employees Health Benefits (FEHB) program eligibility indicators; blood test results; Deoxyribonucleic Acid (DNA); dental care eligibility codes and dental x-rays.

Patient registration data for shared DoD/DVA beneficiary populations, including DVA Integration Control Number (ICN), DVA patient type, patient category code and patient category TRICARE enrollment data (i.e., plan name, effective dates, primary care manager information, premium payment details), identity and relationship data, command interest code and name, command security code and name, medical fly status code.

Catastrophic Cap and Deductible transactions, including monetary amounts; third party health insurance information on dependents; in addition to identity data and demographic data for beneficiaries such as contact information, family membership, and personnel information is captured as required to determine and maintain benefits; DVA disability payment records; digital signatures where appropriate to assert validity of data; care giver information; immunization data; education benefit eligibility and usage; special military pay information; SGLI/FSGLI; Privacy Act audit logs; and account audit information (i.e., IP address) to support cybersecurity policy, unauthorized access and other similar investigations.

Character of service; reenlistment eligibility; entitlement conditions; activations and deployments; medals and awards data; citizenship data/country of birth; civil service employee employment information (agency and bureau, pay plan and grade, nature of action code and nature of action effective date, occupation series, dates of promotion and expected return from overseas, service computation date); compensation data (i.e., Department of Labor Compensation data); date of separation of former enlisted and officer personnel; Information Assurance Work Force information; language data; military personnel information (rank, assignment/deployment, length of service, military occupation, education, and benefit usage); reason leaving military service or DoD civilian service; Reserve member's civilian occupation and employment information; workforces information (e.g., acquisition, first responders).

RECORD SOURCE CATEGORIES:

Individuals and the personnel, pay, and benefit systems of the military and civilian departments, and agencies of the Uniformed Services, DVA, and other Federal agencies.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3) as follows:

a. To Federal agencies and/or their contractors, the Transportation Security Administration and other federal transportation agencies, for purposes of authenticating the identity of individuals who, incident to the conduct of official business, present the CAC or other valid identification as proof of identity to gain physical or logical access to government and contractor facilities, locations, networks, systems, or programs.

b. To Federal and State agencies to validate demographic data (e.g., SSN, citizenship status, date and place of birth, etc.) for individuals in DMDC personnel and pay files so that accurate information is available in support of DoD requirements.

c. To the Social Security Administration for the purpose of verifying an individual's identity.

d. To the DVA:

1. To provide uniformed service personnel (pay, wounded, ill, and injured) identification data for present and former uniformed service personnel for the purpose of evaluating use of veterans' benefits, validating benefit eligibility and maintaining the health and well-being of veterans and their family members.

2. To provide identifying uniformed service personnel data to the DVA and its insurance program contractor for the purpose of conducting outreach and administration of benefits to qualified service members, Veterans and their dependents (38 U.S.C. 1977), notifying separating eligible Reservists of their right to apply for Veteran's Group Life Insurance coverage under the Veterans Benefits Improvement Act of 1996 (38 U.S.C. 1968) and for DVA to administer the Traumatic Service members' Group Life Insurance (TSGLI) (Traumatic Injury Protection Rider to Service members' Group Life Insurance (TSGLI), 38 CFR 9.20).

3. To register eligible veterans and their dependents for DVA programs.

4. To provide former uniformed service personnel and survivor's financial benefit data to DVA for the purpose of identifying retired pay and survivor benefit payments for use in the administration of the DVA's Compensation and Pension Program (38 U.S.C. 5106). The information is to be used to process all DVA award actions more efficiently, reduce subsequent overpayment collection actions, and minimize erroneous payments.

5. To provide identifying uniformed service personnel data to the DVA for the purpose of notifying such personnel of information relating to educational assistance as required by the Veterans Programs Enhancement Act of 1998 (38 U.S.C. 3011 and 3034).

6. To the Veterans Benefits Administration, DVA uniformed service personnel and financial data for the purpose of determining initial eligibility and any changes in eligibility status to insure proper payment of benefits for GI Bill education and training benefits by the DVA under the Montgomery GI Bill (10 U.S.C. Chapter 1606—Selected Reserve and 38 U.S.C. Chapter 30—Active Duty), the Reserve Educational Assistance Program (REAP) educational benefit (Title 10 U.S.C. Chapter 1607), and the National Call to Service enlistment educational benefit (10 Chapter 510), the Post 9/11 GI Bill (38 U.S.C. Chapter 33), and The Transferability of Education Assistance to Family Members. The administrative responsibilities designated to both agencies by the law require that data be exchanged when administering the programs.

e. To consumer reporting agencies:

1. To obtain identity confirmation and current addresses of separated uniformed services personnel to notify them of potential benefits eligibility.

2. To the national consumer reporting agencies for the purpose of ensuring eligible Service members receive MLA protections in accordance with 32 CFR 232.

f. To financial institutions, collection agencies and others with financial and legal transactions with eligible service members for the purpose of ensuring those service members receive SCRA protections in accordance with 50 U.S.C. Chapter 50.

g. To Federal Agencies, to include OPM, United States Postal Service, Department of Health and Human Services (HHS), Department of Education, and DVA to conduct computer matching programs regulated by the Privacy Act of 1974, as amended (5 U.S.C. 552a), for the purpose of:

1. Providing all members of the Reserve Component of the Armed Forces to be matched against the Federal agencies for identifying those Reserve Component Service members that are also Federal civil service employees with eligibility for the FEHB program. This disclosure by the Federal agencies will provide the DoD with the FEHB program eligibility and Federal employment information necessary to determine initial and continuing eligibility for the TRICARE Reserve Select (TRS) program and the TRICARE Retired Reserve (TRR) program (collectively referred to as purchased TRICARE programs). Reserve Component members who are not eligible for FEHB program are eligible for TRS (10 U.S.C. 1076d) or TRR (10 U.S.C. 1076e).

2. Providing all members of the Reserve Component of the Armed Forces to be matched against the Federal agencies for the purpose of identifying the Ready Reserve Component Service members who are also employed by the Federal Government in a civilian position, so that reserve status can be terminated if necessary. To accomplish an emergency mobilization, individuals occupying critical civilian positions cannot be mobilized as Reservists.

3. Providing data to the Department of Education for the purpose of identifying dependent children of those Armed Forces members killed in Operation Iraqi Freedom and Operation Enduring Freedom, Iraq and Afghanistan Only, for possible benefits.

4. To the Veterans Benefits Administration, DVA uniformed service data for the purpose of determining eligibility and any changes in eligibility status to insure proper administration of benefits for GI Bill education and training benefits under the Montgomery GI Bill (10 U.S.C. Chapter 1606—Selected Reserve and 38 U.S.C. Chapter 30—Active Duty), the Post 9/11 GI Bill (38 U.S.C. Chapter 33).

5. Providing data to the Centers for Medicaid and Medicare Services (CMS), HHS, for the purpose of identifying DoD eligible beneficiaries both over and under the age of 65 who are Medicare eligible. Current law requires the Defense Health Agency to discontinue military health care benefits to Military Health Services beneficiaries who are Medicare eligible unless they are enrolled in Medicare Part B.

h. To the CMS, HHS, for the purpose of verifying individual's healthcare eligibility status, in accordance with the Affordable Care Act. Data provided to CMS will be used to make eligibility determinations for insurance affordability programs, administered by Medicaid, the Children's Health Insurance Program, the Basic Health Program and the American Health Benefit Exchange.

i. To Federal agencies for the purpose of notifying service members and dependent individuals of payments or other benefits for which they are eligible under actions of the Federal agencies.

j. To State agencies for the purpose of supporting State Veteran Affairs activities.

k. To the Department of Labor for unemployment compensation calculations.

l. To other Federal agencies and state, local and territorial governments to identify fraud and abuse of the Federal agency's programs and to identify debtors and collect debts and overpayment in the DoD health care programs.

m. To each of the fifty states and the District of Columbia for the purpose of determining the extent to which state Medicaid beneficiaries may be eligible for Uniformed Services health care benefits, including CHAMPUS, TRICARE, and to recover Medicaid monies from the CHAMPUS program.

n. To State and local child support enforcement agencies for purposes of providing information, consistent with the requirements of 29 U.S.C. 1169(a), 42 U.S.C. 666(a)(19), and E.O. 12953 and in response to a National Medical Support Notice (NMSN) (or equivalent notice if based upon the statutory authority for the NMSN), regarding the military status of identified individuals and whether, and for what period of time, the children of such individuals are or were eligible for DoD health care coverage. NOTE: Information requested by the states is not disclosed when it would contravene U.S. national policy or security interests (42 U.S.C. 653(e)).

o. To the HHS:

1. For purposes of providing information, consistent with the requirements of 42 U.S.C. 653 and in response to an HHS request, regarding the military status of identified individuals and whether the children of such individuals are or were eligible for DoD healthcare coverage and for what period of time they were eligible. NOTE: Information requested by HHS is not disclosed when it would contravene U.S. national policy or security interests (42 U.S.C. 653(e)).

2. For purposes of providing information so that specified Medicare determinations, specifically late enrollment and waiver of penalty, can be made for eligible (1) DoD military retirees and (2) spouses (or former spouses) and/or dependents of either military retirees or active duty military personnel, pursuant to section 625 of the Medicare Prescription Drug, Improvement, and Modernization Act of 2002 (as codified at 42 U.S.C. 1395p and 1395r).

3. To the Office of Child Support Enforcement, Federal Parent Locator Service, pursuant to 42 U.S.C. 653 and 653a; to assist in locating individuals for the purpose of establishing parentage; establishing, setting the amount of, modifying, or enforcing child support obligations; or enforcing child custody or visitation orders; the relationship to a child receiving benefits provided by a third party and the name and SSN of those third party providers who have a legal responsibility. Identifying delinquent obligors will allow state child support enforcement agencies to commence wage withholding or other enforcement actions against the obligors.

4. For purposes of providing information to the CMS to account for the impact of DoD healthcare on local reimbursement rates for the Medicare Advantage program as required in 42 CFR 422.306.

p. To the Coast Guard and Public Health Service to complete Individual Mandate Reporting and Employer Mandate reporting to the Internal Revenue Service (IRS) as required by Patient Protection and Affordable Care Act of 2010 (Pub. L. 111-148) and Sections 6055 and 6056 of the IRS Code.

q. To Federal and contractor medical personnel at joint DoD/DVA health care clinics, for purposes of authenticating the identity of individuals who are registered as patients at the clinic and maintaining, through the correlation of DoD ID number and ICN, a shared population of DoD and DVA beneficiaries who are users of the clinic.

r. To the American Red Cross for purposes of providing emergency notification and assistance to members of the Armed Forces, retirees, family members or survivors.

s. To the Office of Disability and Insurance Security Programs, for the purpose of expediting disability processing of wounded military service members and veterans.

t. To Federally Funded Research Centers and grantees for the purpose of performing research on manpower problems for statistical analyses.

u. To Defense contractors to monitor the employment of former DoD employees and uniformed service personnel subject to the provisions of 41 U.S.C. 423.

v. To the Bureau of the Census for the purposes of planning or carrying out a census survey or related activities pursuant to the provisions of section 6 of title 13 U.S.C.

w. To designated officers and employees of Federal, State, local, territorial, tribal, international, or foreign agencies in connection with the hiring or retention of an employee, the conduct of a suitability or security investigation, the letting of a contract, or the issuance of a license, grant or other benefit by the requesting agency, to the extent that the information is relevant and necessary to the requesting agency's decision on the matter and the Department deems appropriate.

x. To Federal and quasi Federal agencies, territorial, state and local governments, and contractors and grantees for the purpose of supporting research studies concerned with the health and well-being of active duty, reserve, and retired uniformed service personnel or veterans, to include family members. DMDC will disclose information from this system of records for research purposes when DMDC:

1. Determines the use or disclosure does not violate legal or policy limitations under which the record was provided, collected, or obtained;

2. Determines the research purpose (1) cannot be reasonably accomplished unless the record is provided in individually identifiable form, and (2) warrants the risk to the privacy of the individual that additional exposure of the record might bring;

3. Requires the recipient to (1) establish reasonable administrative, technical, and physical safeguards to prevent unauthorized use or disclosure of the record, and (2) remove or destroy the information that identifies the individual at the earliest time at which removal or destruction can be accomplished consistent with the purpose of the research project, unless the recipient has presented adequate justification of a research or health nature for retaining such information, and (3) make no further use or disclosure of the record except (A) in emergency circumstances affecting the health or safety of any individual, (B) for use in another research project, under these same conditions, and with written authorization of the Department, (C) for disclosure to a properly identified person for the purpose of an audit related to the research project, if information that would enable research subjects to be identified is removed or destroyed at the earliest opportunity consistent with the purpose of the audit, or (D) when required by law;

4. Secures a written statement attesting to the recipients' understanding of, and willingness to abide by these provisions.

y. To the DHS for the conduct of studies related to the health and well-being of Coast Guard members and to authenticate and identify Coast Guard personnel.

z. To Federal and State agencies for purposes of obtaining socioeconomic information on uniformed service personnel so analytical studies can be conducted with a view to assess the present needs and future requirements of such personnel.

aa. To the Bureau of Citizenship and Immigration Services, DHS, for purposes of facilitating the verification of individuals who may be eligible for expedited naturalization (Pub. L. 108-136, Section 1701, and E.O. 13269, Expedited Naturalization).

bb. To Coast Guard recruiters in the performance of their assigned duties.

cc. To the Office of Personnel Management (OPM) for the purpose of addressing civilian pay and leave, benefits, retirement deduction, and any other information necessary for the OPM to carry out its legally authorized government-wide personnel management functions and studies.

dd. To the appropriate Federal, State, local, territorial, tribal, foreign, or international law enforcement authority or other appropriate entity where a record, either alone or in conjunction with other information, indicates a violation or potential violation of law, whether criminal, civil, or regulatory in nature.

ee. To any component of the Department of Justice for the purpose of representing the DoD, or its components, officers, employees, or members in pending or potential litigation to which the record is pertinent.

ff. In an appropriate proceeding before a court, grand jury, or administrative or adjudicative body or official, when the DoD or other Agency representing the DoD determines that the records are relevant and necessary to the proceeding; or in an appropriate proceeding before an administrative or adjudicative body when the adjudicator determines the records to be relevant to the proceeding.

gg. To the National Archives and Records Administration (NARA) for the purpose of records management inspections conducted under the authority of 44 U.S.C. 2904 and 2906.

hh. To a Member of Congress or staff acting upon the Member's behalf when the Member or staff requests the information on behalf of, and at the request of, the individual who is the subject of the record.

ii. To appropriate agencies, entities, and persons when (1) the DoD suspects or has confirmed that there has been a breach of the System of Records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm

jj. To another Federal agency or Federal entity, when the DoD determines that information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are stored on electronic storage media.

POLICIES AND PRACTICES FOR RETREIVAL OF RECORDS:

Individuals' records can be retrieved using a search algorithm utilizing with the primary identity traits: Personal identifier (e.g., SSN, service number, foreign identification number, etc.), name, date of birth and gender; mailing address, telephone number, mother's maiden name and place of birth when available. Individual information can be retrieved via the DoD ID Number or DoD Benefits Number; data retrievals may be done by biometrics (i.e., fingerprints, photograph); data retrievals for generating address lists for direct mail distribution may be accomplished using selection criteria based on geographic and demographic keys; data retrievals may also be done utilizing audit information.

POLICES AND PRACTICES FOR RETENTION AND DISPOSAL OF RECORDS:

Hardcopy version of DD Form 1172-2: Destroy once written to optical disk. Optical disks: Destroy primary and backup copies after 5 years. The DEERS database is Permanent: Cut off (take a snapshot) at end of Fiscal Year and transfer to NARA in accordance with 36 CFR 1228.270 and 36 CFR 1234 Output records (electronic or paper summary reports) are deleted or destroyed when no longer needed for operational purposes. Note: This disposition instruction applies only to record keeping copies of the reports retained by DMDC. The DoD office requiring creation of the report should maintain its record keeping copy in accordance with NARA approved disposition instructions for such reports.

ADMINISTRATIVE, TECHNICAL, AND PHYSICAL SAFEGUARDS:

Computerized records are maintained in a controlled area accessible only to authorized personnel. Entry to these areas is restricted to those personnel with a valid requirement and authorization to enter. Physical entry is restricted by the use of locks, guards, and administrative procedures (e.g., fire protection regulations). Access to personal information is restricted to those requiring the records in the performance of their official duties, and to the individuals who are the subjects of the record or their authorized representatives. Access to personal information is further restricted by the use of Public Key Infrastructure or login/password authorization. All individuals granted access to this system of records require Information Assurance and Privacy Act training.

RECORD ACCESS PROCEDURES:

Individuals seeking access to information about themselves contained in this system should address written inquiries to the Office of the Secretary of Defense/Joint Staff Freedom of Information Act Requester Service Center, 1155 Defense Pentagon, Washington, DC 20301-1155. Signed written requests should contain the name and number of this system of records notice along with the full name, identifier (i.e., DoD ID number, DoD Benefits Number, or SSN), date of birth, current address, and telephone number of the individual. In addition, the requester must provide either a notarized statement or a declaration made in accordance with 28 U.S.C. 1746, using the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are published in 32 CFR part 310 or may be obtained from the system manager.

NOTIFICATION PROCEDURES:

Individuals seeking to determine whether information about themselves is contained in this system should address written inquiries to the Deputy Director, Defense Manpower Data Center, DoD Center Monterey Bay, 400 Gigling Road, Seaside, CA 93955-6771. Signed written requests should contain the full name, identifier (i.e., DoD ID number, DoD Benefits Number, or SSN), date of birth, and current address and telephone number of the individual. In addition, the requester must provide either a notarized statement or a declaration made in accordance with 28 U.S.C. 1746, using the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROULGATED FOR THE SYSTEM:

None.

HISTORY:

July 27, 2016, 81 FR 49210.

[FR Doc. 2019-22556 Filed 10-15-19; 8:45 am]

BILLING CODE 5001-06-P